DEPARTMENT OF TRANSPORTATION

Federal Highway Administration

U.S. Fish and Wildlife Service Long Range Transportation Plan for Service-Managed Lands

AGENCY: Federal Highway Administration (FHWA), Department of Transportation (DOT).

ACTION: Notice of availability; request for comments.

Authority: 23 U.S.C. 204.

SUMMARY: The Federal Highway Administration, along with the U.S. Fish and Wildlife Service (Service), announce the availability of a draft Service Long Range Transportation Plan (LRTP) for public review and comment. The Draft LRTP outlines a strategy for improving and maintaining transportation assets that provide access to Service-managed lands nationally over the next 20 years. Preparing this document helps the Service meet transportation planning requirements under the Moving Ahead for Progress in the 21st Century Act (MAP-21).

DATES: Please provide your comments by December 23, 2015.

ADDRESSES: See Supplementary Information section for address to obtain copies or make comments.

FOR FURTHER INFORMATION CONTACT:

U.S. Fish and Wildlife Service (FWS), DOI: Steve Suder, (703) 358-1752

Federal Highway Administration (FHWA), DOT: Roxanne Bash, (360) 619-7558

SUPPLEMENTARY INFORMATION: After nearly three years of collaboration and planning, the U.S. Fish and Wildlife Service developed the Service's Long Range Transportation Plan for managed lands, including national wildlife refuges and national fish hatcheries. As the first national level, long range transportation planning document (called PLAN 2035) for a federal land management agency, completing this plan marks a significant achievement for transportation planning in the public lands arena.

U.S. Fish and Wildlife Service is tasked with managing a transportation system that provides mobility and access to sensitive habitats and natural resources in rural landscapes, urban areas, wetlands, coastal plains, mountain highlands and everything in between.

With more than 150 million acres, 560 national wildlife refuges, 70 national fish hatcheries, and 38 wetland management districts, the task is daunting in scope alone. PLAN 2035 is our Agency's answer to solving challenges through transportation solutions. Safety toolkits, roadway design standards, multi-modal access opportunities and a myriad of other strategies and practices not only let us connect to and move freely about our lands, but also help us improve these legacy resources for generations of visitors to come.

The Service envisions a transportation system of not just roads and parking lots, but foot and bicycle paths, transit systems, bridges and water trails that lay lightly on the landscape, yet are resilient to the consequences of natural disasters. The guidance and strategies contained in PLAN 2035 will set the stage for achieving this lofty vision while establishing the transportation program as a progressive, innovative and integral part of the Service.

The draft LRTP is available on the following Web site: http://flh.fhwa.dot.gov/programs/flpp/documents/2035-national-lrtp.pdf . Submit comments electronically at fwslrtpcomments@fws.gov.

We also have a limited number of printed and CD-ROM copies of the draft plans. You may request a copy or submit written comments at the following address: Steve Suder; Attn: FWS National LRTP; US Fish and Wildlife Service, 5275 Leesburg Pike, MS-NWRS, Falls Church, VA 22041

Next Steps—After this comment period ends, we will analyze the comments and address them in the form of final LRTP.

Public Availability of Comments—Before including your address, phone number, email address, or other personal identifying information in your comment, you should be aware that your entire comment—including your personal identifying information -may be made publicly available at any time. While you can ask us in your comment to withhold your personal identifying information from public review, we cannot guarantee that we will be able to do so.

Dated: November 16, 2015.
Sandra Otto,
Division Director, Western Federal Lands Highway Division, FHWA, Vancouver, Washington.

[FR Doc. 2015-29779 Filed 11-20-15; 8:45 am]

BILLING CODE 4910-36-P